DEPARTMENT OF DEFENSE

Department of the Army; Corps of Engineers

Spring Bayou, Louisiana, Ecosystem Restoration Feasibility Study

AGENCY: Department of the Army, U.S. Army Corps of Engineers, DOD.

ACTION: Notice of intent.

SUMMARY: The U.S. Army Corps of Engineers, Vicksburg District, in conjunction with the Avoyelles Parish Police Jury, the non-Federal sponsor, is undertaking studies to investigate the feasibility of restoring the Spring Bayou area ecosystem.

DATES: Initiate EIS, June 30, 2008.

ADDRESSES: Correspondence may be sent to Mr. Larry Marcy, U.S. Army Engineer District, Vicksburg, CEMVK-PP-PQ, 4155 Clay Street, Vicksburg, MS 39183-3435.

FOR FURTHER INFORMATION CONTACT: Mr. Larry Marcy at U.S. Army Corps of Engineers, Vicksburg District, telephone (601) 631-5965, fax (601) 631-5115, or e-mail at larry.e.marcy@usace.army.mil.

SUPPLEMENTARY INFORMATION: Proposed Action. A feasibility level study will identify and evaluate alternatives to restore the Spring Bayou area ecosystem, Avoyelles Parish, Louisiana. The ecosystem is being degraded by water pollution, sedimentation, and growth of nuisance aquatic weeds. An opportunity exists to restore previously existing hydrology by diverting freshwater from the Red River into the Spring Bayou area to improve water quality, fishery production, and wetland habitat.

Alternatives. Alternative locations for water diversion from the Red River will be identified and evaluated, as well as investigating alternatives to control sediment entering the Spring Bayou area from Chatlin Lake Canal. Combinations of alternatives involving water diversion, sediment control or removal, modification or replacement of existing water control structures, and nuisance aquatic weed control will be developed and evaluated in cooperation with state and Federal agencies, local government, Native American tribes, and the public.

Scoping. Scoping is the process for determining the range of the alternatives and significant issues to be addressed in the Environmental Impact Statement (EIS). For this analysis, a letter will be sent to all parties believed to have an interest in the analysis, requesting their input on alternatives and issues to be evaluated. The letter will also notify interested parties of the public scoping meeting that will be held in the local area. A notice will be sent to the local news media. All interested parties are invited to comment at this time, and anyone interested in the study should request to be included on the mailing list.

A public scoping meeting will be held July 29, 2008, beginning at 7 p.m. at the Marksville Fire Department, 512 North Main Street, Marksville, Louisiana.

Significant Issues. The tentative list of resources and issues to be evaluated in the EIS includes aquatic resources, recreational fisheries, wildlife resources, water quality, air quality, threatened or endangered species, recreation resources, and cultural resources. Tentative socioeconomic items to be evaluated in the EIS include business and industrial activity, tax revenues, community and regional growth, community cohesion, and navigation.

Environmental Consultation and Review. The U.S. Fish and Wildlife Service (FWS) will be asked to assist in the documentation of existing conditions, impact analysis of alternatives, and overall study review through the Fish and Wildlife Coordination Act (FWCA) consultation procedures. The FWS would provide an FWCA report to be incorporated into the EIS. The draft EIS or a Notice of Availability will be distributed to all interested agencies, organizations, and individuals.

Estimated Date of Availability. The earliest that the draft EIS is expected to be available is May 2010.

Dated: June 10, 2008.
Douglas J. Kamien,
Chief, Planning, Programs, and Project Management Division.

[FR Doc. E8-14240 Filed 6-23-08; 8:45 am]

BILLING CODE 3710-PU-P